ENVIRONMENTAL PROTECTION AGENCY

[EPA-HQ-OAR-2020-0640; FRL-10380-01-OMS]

Information Collection Request Submitted to OMB for Review and Approval; Comment Request; NESHAP for Engine Test Cells/Stands (Renewal)

AGENCY: Environmental Protection Agency (EPA).

ACTION: Notice.

SUMMARY: The Environmental Protection Agency has submitted an information collection request (ICR), NESHAP for Engine Test Cells/Stands (EPA ICR Number 2066.10, OMB Control Number 2060-0483), to the Office of Management and Budget (OMB) for review and approval in accordance with the Paperwork Reduction Act. This is a proposed extension of the ICR, which is currently approved through February 28, 2025. Public comments were previously requested, via the Federal Register, on February 8, 2021 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before November 28, 2022.

ADDRESSES: Submit your comments, referencing Docket ID Number EPA-HQ-OAR-2020-0640, to EPA online using https://www.regulations.gov/ (our preferred method), or by email to docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: Supporting documents, which explain in detail the information that the EPA will be collecting, are available in the public docket for this ICR. The docket can be viewed online at https://www.regulations.gov, or in person at the EPA Docket Center, WJC West Building, Room 3334, 1301 Constitution Ave. NW, Washington, DC. The telephone number for the Docket Center is 202-566-1744. For additional information about EPA's public docket, visit http://www.epa.gov/dockets.

Abstract: The National Emission Standards for Hazardous Air Pollutants (NESHAP) for Engine Test Cells/Stands (40 CFR part 63, subpart PPPPP) apply to any existing, new, or reconstructed engine test cells/stands located at major source facilities that are used for testing internal combustion engines. Owners and operators of engine test cells/stands are required to comply with reporting and record keeping requirements for the general provisions of 40 CFR part 63, subpart A, as well as the applicable specific standards in 40 CFR part 63 Subpart PPPPP. In general, all NESHAP standards require initial notifications, performance tests, and periodic reports by the owners/operators of the affected facilities. These notifications, reports, and records are essential in determining compliance with 40 CFR part 63, subpart PPPPP and must be maintained for at least 5 years from the date on which it was generated.

Form Numbers: 5900-523.

Respondents/affected entities: Engine test cells/stands.

Respondent's obligation to respond: Mandatory (40 CFR part 63, subpart PPPPP).

Estimated number of respondents: 8 (total).

Frequency of response: Semiannually.

Total estimated burden: 830 hours (per year). Burden is defined at 5 CFR 1320.3(b).

Total estimated cost: $101,000 (per year), which includes $2,400 in annualized capital/startup and/or operation & maintenance costs.

Changes in the estimates: There is a decrease in burden from the most-recently approved ICR as currently identified in the OMB Inventory of Approved Burdens. The regulations were previously amended in a Risk and Technology Review (RTR) on June 3, 2020 at 85 FR 34326. The change in the burden and cost estimates in this ICR occurred because the revised standard has been in effect for 1.5 years and the requirements are different during initial compliance (new facilities) as compared to on-going compliance (existing facilities). The previous ICR (2066.09) reflected those burdens and costs associated with the initial activities for those facilities subject to the June 3, 2020 final rule. This ICR (2066.10) reflects the ongoing burden and costs for existing facilities. The final rule amendments eliminated the SSM exemption, removed the SSM plan and SSM recordkeeping requirements, and required electronic submittal of performance test results. This ICR adjusts the burden, following the June 3, 2020 final rule, to reflect the current number of entities anticipated to be subject to the rule, and assumes the one new source identified in the RTR has already complied with the initial notification and testing requirements, resulting in a decrease in the capital/startup costs. This ICR retains the assumption in the final rule ICR that two new sources will submit an initial notification over the next three years, but will not be subject to emission limits, performance testing, recordkeeping, and reporting requirements. No new sources that would be subject to the emission limits, performance testing, recordkeeping and reporting requirements are anticipated during the three-year period of this ICR.

Courtney Kerwin,
Director, Regulatory Support Division.

[FR Doc. 2022-23375 Filed 10-26-22; 8:45 am]

BILLING CODE 6560-50-P